DEPARTMENT OF ENERGY

[FE Docket Nos. 11-98-LNG, 11-155-NG, 12-03-NG, et al.]

Orders Granting Authority To Import and Export Natural Gas and Liquefied Natural Gas During January 2012

AGENCY: Office of Fossil Energy, Department of Energy (DOE).

ACTION: Notice of orders.

| FE Docket Nos.
DOMINION COVE POINT LNG, LP | 11-98-LNG
ENERGY PLUS NATURAL GAS LLC | 11-155-NG
BROOKFIELD ENERGY MARKETING L.P. | 12-03-NG
WPX ENERGY MARKETING, LLC | 11-157-NG
CAMERON LNG, LLC | 11-145-LNG
CANNAT ENERGY INC. | 11-158-NG
BG LNG SERVICES, LLC | 12-04-LNG
MICHIGAN CONSOLIDATED GAS COMPANY | 12-02-NG
ENERGY SOURCE CANADA INC. | 12-01-NG
SACRAMENTO MUNICIPAL UTILITY DISTRICT | 12-07-NG
CENTRAL LOMAS DE REAL, S.A. DE C.V. | 12-08-NG

SUMMARY: The Office of Fossil Energy (FE) of the Department of Energy gives notice that during January 2012, it issued Orders granting authority to import and export natural gas and liquefied natural gas. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8 a.m. and 4:30 p.m., Monday through Friday, except Federal holidays.

Issued in Washington, DC, on February 22, 2012.
John A. Anderson,
Manager, Natural Gas Regulatory Activities, Office of Oil and Gas Global Security and Supply, Office of Fossil Energy.

Appendix

DOE/FE Orders Granting Import/Export Authorizations
Order No. | Date issued | FE Docket No. | Authorization holder | Description of action
3055 | 01/09/11 | 11-98-LNG | Dominion Cove Point LNG, LP | Order granting blanket authority to export previously imported LNG by vessel.
3056 | 01/10/12 | 11-155-NG | Energy Plus Natural Gas LLC | Order granting blanket authority to import natural gas from Canada.
3057 | 01/10/12 | 12-03-NG | Brookfield Energy Marketing L.P | Order granting blanket authority to import/export natural gas from/to Canada.
3058 | 01/13/12 | 11-157-NG | WPX Energy Marketing, LLC | Order granting blanket authority to import/export natural gas from/to Canada, to import LNG from various sources by vessel, to import LNG from Canada by truck, to export LNG to Canada by vessel/truck, and vacating prior authorization.
3059 | 01/17/12 | 11-145-LNG | Cameron LNG, LLC | Order granting long-term multi-contract authority to export LNG by vessel from Cameron LNG Terminal to free trade agreement nations.
3060 | 01/20/12 | 11-158-NG | CanNat Energy Inc | Order granting blanket authority to import natural gas from Canada.
3061 | 01/20/12 | 12-04-LNG | BG LNG Services, LLC | Order granting blanket authority to import LNG from various sources by vessel.
3062 | 01/25/12 | 12-02-NG | Michigan Consolidated Gas Company | Order granting blanket authority to export natural gas to Canada.
3063 | 01/23/12 | 12-01-NG | Energy Source Canada Inc | Order granting blanket authority to import/export natural gas from/to Canada.
3064 | 01/25/12 | 12-07-NG | Sacramento Municipal Utility District | Order granting blanket authority to import natural gas from Canada.
3065 | 01/27/12 | 12-08-NG | Central Lomas de Real, S.A. de C.V | Order granting blanket authority to import/export natural gas from/to Canada.

[FR Doc. 2012-4818 Filed 2-28-12; 8:45 am]

BILLING CODE 6450-01-P